DEPARTMENT OF THE INTERIOR

National Park Service

[NPS-OIA-WASO-23628; PIN00IO14.XI0000]

U.S. Nomination to the World Heritage List: Hopewell Ceremonial Earthworks

AGENCY: Department of the Interior, National Park Service.

ACTION: Second notice.

SUMMARY: This notice announces the decision to request that a draft nomination of the Hopewell Ceremonial Earthworks for inclusion on the United Nations Educational, Scientific and Cultural Organization (UNESCO) World Heritage List be prepared. The decision is the result of consultation with the Federal Interagency Panel for World Heritage and the review of public comments submitted in response to earlier notices. This notice complies with applicable World Heritage Program regulations.

ADDRESSES: To request paper copies of documents discussed in this notice, contact April Brooks, Office of International Affairs, NPS, 1849 C St. NW, Room 3313, Washington, DC 20240. Email: april_brooks@nps.gov. Information on the U.S. World Heritage program can be found at https://www.nps.gov/subjects/internationalcooperation/worldheritage.htm.

FOR FURTHER INFORMATION CONTACT: Jonathan Putnam, 202-354-1809 or April Brooks, 202-354-1808.

SUPPLEMENTARY INFORMATION:

Background: The World Heritage List is an international list of cultural and natural properties nominated by the signatories to the World Heritage Convention (1972). The United States was the prime architect of the Convention, an international treaty for preservation of natural and cultural heritage sites of global significance proposed by President Richard M. Nixon, and the U.S. was the first nation to ratify it. The World Heritage Committee, composed of representatives of 21 nations periodically elected as the governing body of the World Heritage Convention, makes the final decisions on which nominations to accept on the World Heritage List at its annual meeting each summer.

There are 1,052 sites in 165 of the 192 signatory countries. Currently there are 23 World Heritage Sites in the United States. U.S. participation and the roles of the Department and the National Park Service (NPS) are authorized by Title IV of the Historic Preservation Act Amendments of 1980 and conducted in accordance with 36 CFR 73—World Heritage Convention. The NPS serves as the principal technical agency for World Heritage in the Department, which has the lead role for the U.S. Government in the implementation of the Convention and manages all or parts of 18 of the 23 U.S. World Heritage Sites, including Yellowstone National Park, the Everglades, and the Statue of Liberty.

Each State Party to the Convention maintains a Tentative List, periodically updated, of properties that are considered suitable for nomination. Only properties on the official Tentative List are eligible to officially prepare nominations that the Department may consider for submission. The Hopewell Ceremonial Earthworks have been included on the U.S. Tentative List since January 24, 2008. Neither inclusion in the list nor inscription as a World Heritage Site imposes legal restrictions on owners or neighbors of sites, nor does it give the United Nations any management authority or ownership rights in U.S. World Heritage Sites, which continue to be subject only to U.S. law.

NPS regulations at 36 CFR part 73 establish the process for making nominations to the World Heritage List. This is the second notice as required by 36 CFR 73.7(f) on the proposed nomination of the Hopewell Ceremonial Earthworks. On December 9, 2016, the Department requested public comment on which property or properties on the U.S. World Heritage tentative list should be nominated next by the United States to the World Heritage List. This was the First Notice in the Federal Register (81 FR 89143), as required by 36 CFR 73.7(c).

The Federal Interagency Panel for World Heritage assists the Department in implementing the Convention by making recommendations on U.S. World Heritage policy, procedures, and nominations. The Panel is chaired by the Assistant Secretary for Fish and Wildlife and Parks and includes representatives from various Federal Departments and agencies with Federal land management and policy-making responsibilities.

Decision to Request the Preparation of a New U.S. World Heritage Nomination: The Department received a large number of comments on this proposal, including those made in response to previous opportunities for public comment. These included approximately 80 expressions of support for a nomination by the property owners and managers, non-profit organizations, elected officials at the local, state, and Federal levels, representatives of Indian tribes, universities, and individuals, as well as an internet petition with over 800 signatures. Some earlier comments also suggested that the nomination be made in combination with North American earthworks of other periods, but the Department has determined that such an approach would be too broadly defined to present a clear justification to meet the World Heritage criteria. There were no comments against nominating the properties. There were no comments made in the current comment period recommending the nomination of any other properties on the Tentative List. The Department considered all comments received as well as the advice of the Federal Interagency Panel for World Heritage. The Panel made its recommendations to the Department on the next U.S. World Heritage nomination at a meeting on January 6, 2017. The Panel agreed by consensus to support the preparation of a nomination at this time for the Hopewell Ceremonial Earthworks.

The Department has selected the Hopewell Ceremonial Earthworks as a proposed nomination to the World Heritage List. With the assistance of the Department, the owners of this group of sites are encouraged to prepare a complete nomination document in accordance with 36 CFR part 73 and the nomination format required by the World Heritage Committee.

Hopewell Ceremonial Earthworks in Ohio includes:

• Hopewell Culture National Historical Park, including the Mound City Group, Hopewell Mound Group, Seip Earthworks, High Bank Earthworks, and Hopeton Earthworks

• Newark Earthworks State Memorial, including the Octagon Earthworks, Great Circle Earthworks, and Wright Earthworks

• Fort Ancient State Memorial

Dating from the middle Woodland period (1,500-2,200 years ago) the Hopewell people built enormous, landscape-scale geometric earthwork sites over a large area of southern Ohio, in an extraordinary expression of pre-Columbian ritual cultural activity which was at the center of a tradition that interacted with people as far away as the Yellowstone basin and Florida. The circles, squares and octagons are intricately related by precise and standard units of measure. They also demonstrate sophisticated astronomical observation, and contain extensive deposits of artifacts that are among the most outstanding art objects produced in pre-Columbian North America. The property includes below-ground evidence as well.

Next Steps: A draft World Heritage nomination for the Hopewell Ceremonial Earthworks may now be prepared, in consultation with the National Park Service's Office of International Affairs. The World Heritage nomination format may be found at the World Heritage Centre website in Annex 5 of the Operational Guidelines of the World Heritage Convention at http://whc.unesco.org/en/guidelines. The NPS will coordinate the review and evaluation of the draft nomination and will establish in consultation with the property owners and managers a memorandum that describes the roles, responsibilities, and process to be followed in developing a nomination, including the documentation of protective measures as provided for in 36 CFR 73.13. Following NPS review of a complete draft nomination, the Department may submit it to the World Heritage Centre for technical review by September 30 of any year. The Centre will then provide comments by November 15 of that year. The Federal Interagency Panel for World Heritage will review a draft nomination following receipt of the Centre's comments. The Interagency Panel will evaluate the adequacy of the nomination, the significance of the property and whether the nomination should be formally submitted to the World Heritage Centre for consideration by the World Heritage Committee, and will make a recommendation to the Department. Submittal to the World Heritage Centre by the Department through the Department of State can be made by February 1 of any year; the World Heritage Committee will then consider the nomination at its annual meeting in the summer of the following year, following an evaluation by an official Advisory Body to the Committee.

Authority: 54 U.S.C. 307 101; 36 CFR part 73.

Dated: April 24, 2018.
Susan Combs,
Senior Advisor to the Secretary, Exercising the Authority of the Assistant Secretary for Fish and Wildlife and Parks.

[FR Doc. 2018-11363 Filed 5-24-18; 8:45 am]

BILLING CODE 4312-52-P